DEPARTMENT OF ENERGY

Federal Energy Regulatory Commission

[Docket No. IC12-18-000]

Commission Information Collection Activities (FERC-500 & FERC-505); Comment Request; Extension

AGENCY: Federal Energy Regulatory Commission.

ACTION: Notice of information collections and request for comments.

SUMMARY: In compliance with the requirements of the Paperwork Reduction Act of 1995, 44 U.S.C. 3506(c)(2)(A), the Federal Energy Regulatory Commission (Commission or FERC) is soliciting public comment on the currently approved information collections, Application for License/Relicense for Water Projects with Greater than 5 Megawatt Capacity (FERC-500) and Application for License/Relicense for Water Projects with 5 Megawatt or Less Capacity (FERC-505).

DATES: Comments on the collections of information are due November 13, 2012.

ADDRESSES: You may submit comments (identified by Docket No. IC12-18-000, and applicable FERC collection number [FERC-500 or FERC-505]) by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, telephone at (202) 502-8663, and fax at (202) 273-0873.

SUPPLEMENTARY INFORMATION: Titles: FERC-500: Application for License/Relicense for Water Projects with Greater than 5 Megawatt Capacity; FERC-505: Application for License/Relicense for Water Projects with 5 Megawatt or Less Capacity.

OMB Control Nos.: FERC-500 (1902-0058); FERC-505 (1902-0114).

Type of Request: 16 U.S.C. 797(e) authorizes the Commission to issue licenses to citizens of the United States for the purpose of constructing, operating, and maintaining dams, waterways over which Congress has jurisdiction. The Electric Consumers Protection Act (ECPA) amended the Federal Power Act (FPA) to provide the Commission with the responsibility of issuing licenses for non-federal hydroelectric plants. 16 U.S.C. 797(e) also requires the Commission to give equal consideration to preserving energy conservation, the protection, mitigation of damage to, and enhancement of, fish and wildlife, the protection of recreational opportunities, and the preservation of other aspects of environmental quality when approving licenses. Finally, 16 U.S.C. 799 stipulates conditions upon which the Commission issues hydroelectric licenses.

The Commission requires all hydroelectric license applications to address a variety of environmental concerns. Many of these concerns address environmental requirements developed by other agencies. The applicants must provide facts in order for the Commission to understand and resolve potential environmental problems associated with the application in the interests of the United States public.

Types of Respondents: Non-federal hydroelectric plants greater than 5 megawatt capacity (FERC-500); non-federal hydroelectric plants less than 5 megawatts capacity (FERC-505).

Estimate of Annual Burden: ¹ The Commission estimates the total Public Reporting Burden for each information collection as:

¹ The Commission defines burden as the total time, effort, or financial resources expended by persons to generate, maintain, retain, or disclose or provide information to or for a Federal agency. For further explanation of what is included in the information collection burden, reference 5 Code of Federal Regulations 1320.3.

FERC-500 (IC12-18-000): Application for License/Relicense for Water Projects With Greater Than 5 Megawatt Capacity
| Number of respondents | Number of responses per respondent | Total number of responses | Average burden hours per response | Estimated total annual burden
| (A) | (B) | (A) * (B) = (C) | (D) | (C) * (D)
| 219 | 1 | 219 | 87 | 19,053

FERC-505 (IC12-18-000): Application for License/Relicense for Water Projects With 5 Megawatt or Less Capacity
| Number of respondents | Number of responses per respondent | Total number of responses | Average burden hours per response | Estimated total annual burden
| (A) | (B) | (A) * (B) = (C) | (D) | (C) * (D)
| 16 | 1 | 16 | 273 | 4,369

FERC-500: Total estimated annual cost burden to respondents is $1,314,839.32 [19,053 hours ÷ 2080 hours/year ² = 9.16009 * $143,540/year ³ = $1,314,839.32].

² 2080 hours = 52 weeks * 40 hours per week (i.e. 1 year of full-time employment).

³ Average salary plus benefits per full-time equivalent employee.

FERC-505: Total estimated annual cost burden to respondents is $301,502.90 [4,369 hours ÷ 2080 hours/year = 2.10048 years * $143,540/year = $301,502.90].

Comments: Comments are invited on: (1) Whether the collections of information are necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Dated: September 6, 2012.
Kimberly D. Bose,
Secretary.

[FR Doc. 2012-22514 Filed 9-12-12; 8:45 am]

BILLING CODE 6717-01-P